ELECTION ASSISTANCE COMMISSION

Petition of America First Legal Foundation for Rulemaking Before the Election Assistance Commission

AGENCY: Election Assistance Commission.

ACTION: Rulemaking Petition: Notification of Availability.

SUMMARY: On July 16, 2025, the Election Assistance Commission (EAC or Commission) received a petition for rulemaking submitted by America First Legal Foundation asking the Commission to amend EAC Regulations and the National Mail Voter Registration Form to require documentary proof of United States citizenship to register to vote in federal elections.

DATES: Comments must be submitted on or before October 20, 2025.

ADDRESSES: All comments must be in writing. Interested persons should not provide in their comments any information that they do not wish to make public, such as a home street address, personal email address, date of birth, phone number, social security number, driver's license number, or any information that is privileged or confidential.

Interested persons are encouraged to submit comments using the Federal eRulemaking Portal at www.regulations.gov under docket number EAC-2025-0236. Follow the instructions for submitting comments. Alternatively, interested persons may submit comments, identified by docket number EAC-2025-0236, by postal mail at: U.S. Election Assistance Commission, 633 3rd Street NW, Suite 200, Washington, DC 20001. Attn: Office of the General Counsel.

FOR FURTHER INFORMATION CONTACT: Camden Kelliher, EAC General Counsel. Telephone: (202) 360-3160; Email: ckelliher@eac.gov.

SUPPLEMENTARY INFORMATION: On July 16, 2025, the Election Assistance Commission received a petition for rulemaking submitted by America First Legal Foundation, asking the Commission to amend 11 CFR 9428.4 and the federal voter registration form to require documentary proof of United States citizenship to register to vote in federal elections.

The National Voter Registration Act (NVRA) of 1993 (52 U.S.C. 20501-20511) created a single federal form that all states are required to accept and use for voter registration for federal elections. The EAC is responsible for maintaining and, as necessary, amending this form. The NVRA mandates that states “accept and use the mail voter registration application form prescribed by the [EAC] . . . for the registration of voters in elections for Federal office”; that the form contain the following question: “Are you a citizen of the United States of America?”; and that the form “include a statement that . . . specifies each eligibility requirement (including citizenship)” and “requires the signature of the applicant, under penalty of perjury.” The NVRA also empowers the EAC to “require . . . information . . . necessary to enable the appropriate State election official to assess the eligibility of the applicant and to administer voter registration and other parts of the election process.”

The Help America Vote Act (HAVA) requires that the NVRA form include a question about citizenship status, requiring attestation of United States citizenship under penalty of perjury, without necessitating documentary proof of citizenship (52 U.S.C. 21083(b)(4)(A)). The implementing regulations for this requirement are provided in 11 CFR 9428.4.

The petition submitted by America First Legal Foundation seeks to initiate a rulemaking process to amend 11 CFR 9428.4 and the federal voter registration form to require applicants to provide one of the following as proof of citizenship: U.S. Passport, State-issued Real ID-compliant driver's license indicating that the applicant is a citizen, an official military identification card that indicates the applicant is a citizen of the United States, or a valid Federal or State government-issued photo identification if such identification indicates that the applicant is a United States citizen or if such identification is otherwise accompanied by proof of United States citizenship.

The EAC seeks comments on the petition. The public may inspect the petition here: https://www.eac.gov/sites/default/files/2025-08/America_First_Legal_EAC_DPOC_Rule_Petition.pdf. The EAC will not consider the petition's merits until after the comment period closes.

Camden Kelliher
General Counsel, U.S. Election Assistance Commission.

[FR Doc. 2025-15930 Filed 8-20-25; 8:45 am]

BILLING CODE 4810-71-P